FEDERAL COMMUNICATIONS COMMISSION

[CC Docket No. 92-237; DA 04-1073]

Next Meeting of the North American Numbering Council

AGENCY: Federal Communications Commission.

ACTION: Notice.

SUMMARY: On April 27, 2004, the Commission released a public notice announcing the May 3, 2004 conference call meeting and agenda of the North American Numbering Council (NANC). The intended effect of this action is to make the public aware of the NANC's conference call meeting and agenda. This notice of the May 3, 2004, NANC conference call meeting is being published in the Federal Register less than 15 calendar days prior to the meeting due to the NANC's need to discuss a time sensitive issue before the next scheduled meeting. This statement complies with the General Services Administration Management regulations implementing the Federal Advisory Committee Act. See 41 CFR Section 101-6.1015(b)(2).

DATES: Monday, May 3, 2004, 2:30 p.m., e.s.t.

ADDRESSES: Telecommunications Access Policy Division, Wireline Competition Bureau, Federal Communications Commission, 445 Twelfth Street, SW., Room 5-A420, Washington, DC 20554. Requests to make an oral statement or provide written comments to the NANC should be sent to Deborah Blue.

FOR FURTHER INFORMATION CONTACT: Deborah Blue, Special Assistant to the Designated Federal Officer (DFO) at (202) 418-1466 or deborah.blue@fcc.gov. The fax number is: (202) 418-2345. The TTY number is: (202) 418-0484.

SUPPLEMENTARY INFORMATION: Released: April 27, 2004.

The North American Numbering Council (NANC) has scheduled a meeting to be held by conference call on Monday, May 3, 2004, from 2:30 p.m., e.s.t. until 3:30 p.m., e.s.t. The conference bridge number for domestic participants is (888) 532-2096 (toll free). The call in number for international participants is (904) 779-4760 (caller pays). The Chairperson to ask for is Robert Atkinson. This meeting is open to members of the general public. Due to limited port space, NANC members and Commission staff will have first priority on the call. The FCC will attempt to accommodate as many participants as possible. Members of the public may join the call as remaining port space permits or may attend in person at the Federal Communications Commission, Portals II, 445 Twelfth Street, SW., Room 3-B516, Washington, DC 20554. The public may submit written statements to the NANC, which must be received one business day before the meeting. In addition, oral statements at the meeting by parties or entities not represented on the NANC will be permitted to the extent time permits. Such statements will be limited to five minutes in length by any one party or entity, and requests to make an oral statement must be received one business day before the meeting. Requests to make an oral statement or provide written comments to the NANC should be sent to Deborah Blue at the address under FOR FURTHER INFORMATION CONTACT, stated above.

Proposed Agenda—Monday, May 3, 2004, 2:30 p.m., e.s.t.

To discuss the NANC Report and Recommendation to the Federal Communications Commission regarding the Intermodal Porting Interval.

Federal Communications Commission.
Sanford S. Williams,
Attorney, Telecommunications Access Policy Division, Wireline Competition Bureau.

[FR Doc. 04-9884 Filed 4-29-04; 8:45 am]

BILLING CODE 6712-01-P